DEPARTMENT OF THE INTERIOR

Bureau of Indian Affairs

Law and Order on Indian Reservations

AGENCY: Bureau of Indian Affairs, Interior.

ACTION: Rescission of notice of intent to reassume judicial jurisdiction.

SUMMARY: This notice rescinds the Notice of Intent published by the Bureau of Indian Affairs in the Federal Register on April 29, 2003.

DATES: Effective Dates: February 15, 2005.

FOR FURTHER INFORMATION CONTACT: Kenneth Reinfeld, Office of Self-Governance and Self-Determination, Office of the Assistant Secretary—Indian Affairs, 1849 C Street, NW., Mail Stop 4628-MIB, Washington, DC 20240, (202) 208-5734.

SUPPLEMENTARY INFORMATION: This notice is published in accordance with the authority delegated by the Secretary of the Interior to the Assistant Secretary—Indian Affairs under part 209, Chapter 8, of the Departmental Manual (209 DM 8).

By letter dated August 4, 2004, the Assistant Secretary—Indian Affairs advised the Kaw Nation that the Notice of Intent published by the Bureau of Indian Affairs in the Federal Register on April 29, 2003 (68 FR 22728) would be rescinded by publication of a new Federal Register notice. The April 20, 2003 notice expressed the intent of the Bureau of Indian Affairs to reassume judicial jurisdiction for the Kaw Nation of Oklahoma and to administer court cases under the Court of Indian Offenses for the Southern Plains Region, until the Kaw Nation reestablished its court. As reflected in and confirmed by the 2004 amendment to the Nation's multi-year funding agreement, the Kaw Nation has operated its court system under its law and order codes and constitution without interruption. The April 20, 2003 notice is hereby rescinded.

Dated: January 27, 2005.
David W. Anderson,
Assistant Secretary—Indian Affairs.

[FR Doc. 05-2902 Filed 2-14-05; 8:45 am]

BILLING CODE 4310-W8-P